SECURITIES AND EXCHANGE COMMISSION

[Release No. 34-95018; File No. SR-FINRA-2021-024]

Self-Regulatory Organizations; Financial Industry Regulatory Authority, Inc.; Order Approving a Proposed Rule Change To Amend FINRA Rule 2231 (Customer Account Statements), as Modified by Amendment No. 1

Correction

In notice document 2022-12169, appearing on pages 34728-34736, in the issue of Tuesday, June 7, 2022, make the following correction:

On page 34728, in the first column, in the standard document heading, the Agency document identification number that reads “[Release No. 34-95018; File No. SR-FINRA-2021-02]” is corrected to read “[Release No. 34-95018; File No. SR-FINRA-2021-024]”.

[FR Doc. C1-2022-12169 Filed 6-14-22; 8:45 am]

BILLING CODE 0099-10-D